OFFICE OF THE UNITED STATES TRADE REPRESENTATIVE

[Docket No. WTO/DS344]

WTO Dispute Settlement Proceeding Regarding Antidumping Measures on Stainless Steel Sheet and Strip Coils From Mexico

AGENCY: Office of the United States Trade Representative.

ACTION: Notice; request for comments.

SUMMARY: The Office of the United States Trade Representative (USTR) is providing notice that on October 26, 2006, the Dispute Settlement Body established, at the request of Mexico, a panel under the Marrakesh Agreement Establishing the World Trade Organization (WTO Agreement) concerning certain U.S. antidumping orders against stainless steel sheet and strip coils (Department of Commerce Case No. A-201-822). That request may be found at http://www.wto.org contained in a document designated as WT/SD344/4. USTR invites written comments from the public concerning the issues raised in this dispute.

DATES: Although USTR will accept any comments received during the course of the dispute settlement proceedings, comments should be submitted on or before February 28, 2007 to be assured of timely consideration by USTR.

ADDRESSES: Comments should be submitted (i) Electronically, to FR0620@ustr.eop.gov, with “Mexico Zeroing II (DS344)” in the subject line, or (ii) by fax, to Sandy McKinzy at (202) 395-3640, with a confirmation copy sent electronically to the electronic mail address above, in accordance with the requirements for submission set out below.

FOR FURTHER INFORMATION CONTACT: Elizabeth V. Baltzan, Associate General Counsel, Office of the United States Trade Representative, 600 17th Street, NW., Washington, DC, (202) 395-3582.

SUPPLEMENTARY INFORMATION: Section 127(b) of the Uruguay Round Agreements Act (URAA) (19 U.S.C. 3537(b)(1)) requires that notice and opportunity for comment be provided after the United States submits or receives a request for the establishment of a WTO dispute settlement panel.

Major Issues Raised by Mexico

On October 12, 2006, Mexico requested the establishment of a panel regarding the Department of Commerce's use of “zeroing” in investigations and administrative reviews. Mexico challenges the following determinations:

• Final results of the anti-dumping investigation and antidumping order, entitled “Final Determination Of Sales At Less Than Fair Value: Stainless steel sheet and strip in coils from Mexico,” published in 64 Federal Register (FR) 30790 of 8 June 1999 (investigation) and its amendments and order, 64 FR 40560 of 27 July 1999;

• Final results of the determination of anti-dumping duties for the period from January 1999 to June 2000, entitled “Final Results of Antidumping Duty Administrative Review: Stainless Steel Sheet And Strip In Coils From Mexico,” published in 67 FR 6490 of 12 February 2002 (final results of the determination of duties 1999-2000) and its amendments, 67 FR 15542 of 2 April 2002);

• Final results of the determination of anti-dumping duties for the period from July 2000 to June 2001, entitled “Final Results of Antidumping Duty Administrative Review: Stainless Steel Sheet And Strip In Coils From Mexico,” published in 68 FR 6889 of 11 February 2003 (final results of the determination of duties 2000-2001), and amendments, 68 FR 13686 of 20 March 2003.

• Final results of the determination of anti-dumping duties for the period from July 2001 to June 2002, entitled “Final Results of Antidumping Duty Administrative Review: Stainless Steel Sheet And Strip In Coils From Mexico,” published in 69 FR 6259 of 10 February 2004 (final results of the determination of duties 2001-2002);

• Final results of the determination of anti-dumping duties for the period from July 2002 to June 2003, entitled “Final Results Of Antidumping Duty Administrative Review: Stainless Steel Sheet And Strip In Coils From Mexico,” published in 69 FR 3677 of 26 January 2005 (final results of the determination of duties 2002-2003);

• Final results of the determination of anti-dumping duties for the period from July 2003 to June 2004, entitled “Final Results Of Antidumping Duty Administrative Review: Stainless Steel Sheet And Strip In Coils From Mexico,” published in 70 FR 73444 of 12 December 2005 (final results of the determination of duties 2003-2004).

Mexico also challenges:

• Sections 736, 751, 771(35)(A) and (B), and section 777A(c) and (d) of The Tariff Act of 1930, as amended;

• The Statement of Administrative Action that accompanied the Uruguay Round Agreements Act, H.R. Doc. No. 103-316, vol. I;

• USDOC regulations codified at Title 19 of the United States Code of Federal Regulations, sections 351.212(b), 351.414(c), (d) and (e); and

• The Import Administration Antidumping Manual (1997 edition), including the computer program(s) to which it refers.

In addition, Mexico challenges the methodologies used to calculate dumping margins in original investigations and periodic reviews.

Public Comment: Requirements for Submissions

Interested persons are invited to submit written comments concerning the issues raised in the dispute. Comments should be submitted (i) Electronically, to FR0620@ustr.eop.gov, with “Mexico Zeroing II (DS344)” in the subject line, or (ii) by fax, to Sandy McKinzy at (202) 395-3640, with a confirmation copy sent electronically to the electronic mail address above. USTR encourages the submission of documents in Adobe PDF format as attachments to an electronic mail. Interested persons who make submissions by electronic mail should not provide separate cover letters; information that might appear in a cover letter should be included in the submission itself. Similarly, to the extent possible, any attachments to the submission should be included in the same file as the submission itself, and not as separate files.

A person requesting that information contained in a comment submitted by that person be treated as confidential business information must certify that such information is business confidential and would not customarily be released to the public by the commenter. Confidential business information must be clearly designated as such and BUSINESS CONFIDENTIAL must be marked at the top and bottom of the cover page and each succeeding page.

Information or advice contained in a comment submitted, other than business confidential information, may be determined by USTR to be confidential in accordance with section 135(g)(2) of the Trade Act of 1974 (19 U.S.C. 2155(g)(2)). If the submitter believes that information or advice may qualify as such, the submitter

(1) Must clearly so designate the information or advice;

(2) must clearly mark the material as SUBMITTED IN CONFIDENCE at the top and bottom of the cover page and each succeeding page; and

(3) is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; if a dispute settlement panel is convened or in the event of an appeal from such a panel, the U.S. submissions, the submissions, or non-confidential summaries of submissions, received from other participants in the dispute; the report of the panel, and, if applicable, the report of the Appellate Body. An appointment to review the public file (Docket WTO/DS-344 Mexico Zeroing II) may be made by calling the USTR Reading Room at (202) 395-6186. The USTR Reading Room is open to the public from 9:30 a.m. to noon and 1 p.m. to 4 p.m., Monday through Friday.

Daniel Brinza,
Assistant United States Trade Representative for Monitoring and Enforcement.

[FR Doc. E6-22186 Filed 12-26-06; 8:45 am]

BILLING CODE 3190-W7-P